DEPARTMENT OF TRANSPORTATION

Federal Aviation Administration

14 CFR Part 39

[Docket No. FAA-2005-22630; Directorate Identifier 2001-NM-323-AD]

RIN 2120-AA64

Airworthiness Directives; Airbus Model A300 B4-600, B4-600R, and F4-600R Series Airplanes, and Model C4-605R Variant F Airplanes (Collectively Called A300-600 Series Airplanes); and Airbus Model A310-200 and -300 Series Airplanes

AGENCY: Federal Aviation Administration (FAA), Department of Transportation (DOT).

ACTION: Supplemental notice of proposed rulemaking (NPRM); reopening of comment period.

SUMMARY: The FAA is revising an earlier NPRM for an airworthiness directive (AD) that applies to all Airbus Model A300 B4-600, B4-600R, and F4-600R series airplanes, and Model C4-605R Variant F airplanes (collectively called A300-600 series airplanes); and A310-200 and -300 series airplanes. The original NPRM would have required a one-time inspection of the trimmable horizontal stabilizer actuator (THSA), corrective actions if necessary, and follow-on repetitive tasks. The original NPRM resulted from reports of THSAs that have reached their design operational life. This operational life can be extended provided an initial inspection and follow-on repetitive tasks are accomplished. This action revises the original NPRM by revising the initial compliance time. It also allows the component maintenance manual as an alternative repair method. We are proposing this supplemental NPRM to extend the operational life of the THSA to prevent a possible failure of high-time THSAs, which could result in reduced controllability of the airplane.

DATES: We must receive comments on this supplemental NPRM by June 12, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this supplemental NPRM.

FOR FURTHER INFORMATION CONTACT: Thomas Stafford, Aerospace Engineer, International Branch, ANM-116, FAA, Transport Airplane Directorate, 1601 Lind Avenue, SW., Renton, Washington 98055-4056; telephone (425) 227-1622; fax (425) 227-1149.

SUPPLEMENTARY INFORMATION:

Comments Invited

We invite you to submit any relevant written data, views, or arguments regarding this supplemental NPRM. Send your comments to an address listed in the ADDRESSES section. Include the docket number “Docket No. FAA-2005-22630; Directorate Identifier 2001-NM-323-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM would have applied to all Airbus Model A300 B4-600, B4-600R, and F4-600R series airplanes, and Model C4-605R Variant F airplanes (collectively called A300-600 series airplanes); and A310-200 and -300 series airplanes. The original NPRM was published in the Federal Register on October 6, 2005 (70 FR 58352). The original NPRM proposed to require a one-time inspection of the trimmable horizontal stabilizer actuator (THSA), corrective actions if necessary, and follow-on repetitive tasks.

Comments

We have considered the following comments on the original NPRM.

Request To Withdraw Proposed AD

According to a comment submitted through the Air Transport Association (ATA) on behalf of its member American Airlines, the original NPRM is unnecessary and would impose excessive and inappropriate regulatory requirements. American Airlines alleges that the original NPRM does not address the failure or safe operation of the subject THSA but instead addresses the manufacturer's failure to do its administrative duty—to adequately define the required maintenance and service life limitations of the component in the maintenance planning document (MPD). Because there have been no reports of failed THSAs on affected airplanes, the commenter concludes that the scope of the original NPRM extends beyond addressing a specific unsafe condition, and argues that operation beyond a design service goal does not necessarily constitute an airworthiness concern. American Airlines asserts that corresponding French airworthiness directive 2001-242(B), dated June 27, 2001, “more appropriately acts as a temporary bridging document in the absence of the necessary MPD data.”

We infer that the commenter requests that we withdraw the original NPRM. We disagree.

First, this supplemental NPRM does not differ from the French airworthiness directive or service information (except for the source of repair approval explained in paragraph (g) of the supplemental NPRM).

Second, an unsafe condition has been identified: Failure of the THSA could result in reduced controllability of the airplane. The THSA on the affected airplanes was designed for a specified operational life; some THSAs installed on those airplanes have reached this operational limit. The DGAC has mandated an inspection and maintenance program to maintain the THSA's design reliability objective beyond its original operational life. In consonance with the DGAC, we find it necessary to require the actions as proposed. We find no basis to withdraw the proposed AD.

Request To Revise Repair Requirements

This same commenter requests that we revise the proposed requirement to obtain FAA or DGAC approval for repairs. American Airlines notes that there is no language in Airbus Service Bulletin A300-27-6044 or the French airworthiness directive or Goodrich Service Bulletin 47142-27-11 that proposes the need for regulatory oversight of repair actions. American Airlines adds that the original NPRM provides no justification for the requirement. According to the commenter, the THSA Component Maintenance Manual (CMM) does provide the necessary instructions for returning a unit to serviceable condition. The commenter reports that the airline is currently “complying with the DGAC requirements” and that the repair criterion was approved by the OEM (original equipment manufacturer) and Airbus, and was satisfactory to the DGAC.

We infer that the commenter requests that we revise paragraph (g) to require repair in accordance with the CMM. We concur. We have reviewed TRW Aeronautical Systems/Lucas Aerospace CMM 27-44-13, dated September 14, 2001, and have determined that it contains the necessary repair information. We have revised paragraph (g) in this supplemental NPRM to consider this information an approved method for the repair.

Request To Incorporate Additional Service Information

The same commenter would like to ensure that we are aware of Airbus Operators Information Telex (OIT), Reference SE 999.0074/05/BB, dated August 3, 2005, and that the contents of the OIT are reflected in the final rule, if applicable. The OIT determines the operational life of the THSA at 65,000 flight hours or 40,000 flight cycles or 25 years.

We have reviewed the OIT, as well as Revision 01, dated October 28, 2005, which informs operators that a new life limit of 25 years applies to the THSA. In concurrence with the DGAC, we have determined that this 25-year life limit must be applied. We have revised paragraphs (g), (h), and (i) in this supplemental NPRM accordingly.

Request for Credit for Prior Inspection

Paragraph (g) of the original NPRM would require an inspection before the THSA accumulates 47,000 total flight hours, or within a grace period of 600 flight hours. The same commenter requests that we revise paragraph (g) to provide credit for the demonstrated prior accomplishment of the inspection for any THSA inspected and approved for the revised operational life of 65,000 hours or 40,000 cycles. The commenter states that including this language would avoid the necessity to pursue accomplishment credit through the alternative method of compliance (AMOC) process.

We find it unnecessary to revise paragraph (g). The language “unless the actions have already been done” specified in paragraph (e) in this supplemental NPRM obviates the need to repeat the inspection.

Request To Revise Cost Estimate

The same commenter suggests that we revise the “Estimated Costs” table to reflect actual operator experience. The commenter reports that the proposed inspection takes at least 8 work hours based on American Airlines' experience, rather than 3 hours as the original NPRM states. The commenter adds that it was necessary to replace the $6,082 elastic claw stop because of hydraulic fluid ingress. The commenter states that all operators will likely encounter the same results, and requests that we include this cost in the final rule.

We acknowledge the commenter's concerns but don't agree to change the cost estimate. The amount of time for the inspection will vary among operators. The cost estimate specified in the original NPRM reflects the work hour estimate provided by the manufacturer. Further, we do not agree to include the cost of the elastic claw stop. The commenter did not specify the percentage of the fleet that required a replaced elastic claw stop. The requirement to replace it is conditional based on the inspection findings. The information in the Costs of Compliance section in an AD action is limited to the cost of actions actually required by the AD. That section does not consider the costs of conditional actions (e.g., “repair, if necessary”). Regardless of AD direction, those actions would be required to correct an unsafe condition identified in an airplane and ensure operation of that airplane in an airworthy condition, as required by the Federal Aviation Regulations.

Revised Labor Rate

After the original NPRM was issued, we reviewed the figures we have used over the past several years to calculate AD costs to operators. To account for various inflationary costs in the airline industry, we find it necessary to increase the labor rate used in these calculations from $65 per work hour to $80 per work hour. The cost impact information, below, reflects this increase in the specified hourly labor rate.

FAA's Determination and Proposed Requirements of the Supplemental NPRM

One of the changes discussed above expands the scope of the original NPRM; therefore, we have determined that it is necessary to reopen the comment period to provide additional opportunity for public comment on this supplemental NPRM.

Costs of Compliance

The following table provides the estimated costs for U.S. operators to comply with this supplemental NPRM.

Estimated Costs
Action | Work hours | Average labor rate per hour | Parts | Cost per airplane | Number of U.S.-reg. airplanes | Fleet cost
Inspection | 3 | $80 | None required | $240 | 146 | $35,040
Repetitive follow-on tasks | 12 | 80 | $0 | $960, per inspection cycle | 146 | $140,160, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22630; Directorate Identifier 2001-NM-323-AD.

Comments Due Date

(a) The FAA must receive comments on this AD action by June 12, 2006.

Affected ADs

(b) None.

Applicability

(c) This AD applies to all of the following Airbus airplanes, certificated in any category:

Model A300 B4-601, B4-603, B4-620, and B4-622 airplanes.

Model A300 B4-605R and B4-622R airplanes.

Model A300 F4-605R and F4-622R airplanes.

Model A300 C4-605R Variant F airplanes.

Model A310-203, -204, -221, and -222 airplanes.

Model A310-304, -322, -324, and -325 airplanes.

Unsafe Condition

(d) This AD results from reports of trimmable horizontal stabilizer actuators (THSAs) that have reached their design operational life. We are issuing this AD to extend the operational life of the THSA to prevent a possible failure of high-time units, which could result in reduced controllability of the airplane.

Compliance

(e) You are responsible for having the actions required by this AD performed within the compliance times specified, unless the actions have already been done.

Service Bulletin References

(f) Unless otherwise specified in this AD, the term “service bulletin,” as used in this AD, means the applicable required service bulletin identified in Table 1 of this AD. The service bulletins refer to Goodrich Actuation Systems Service Bulletin 47142-27-11, Revision 3, dated April 25, 2005, as an additional source of service information for the required actions.

Table 1.—Service Bulletins
Required Airbus service bulletin | Approved Airbus service bulletin version for actions done before the effective date of this AD | Airbus airplane model
A300-27-6044, Revision 04, dated September 10, 2001. | A300-27-6044, Revision 02, dated August 26, 2000; or Revision 03, dated June 28, 2001. | A300 B4-601, B4-603, B4-620, and B4-622. A300 B4-605R and B4-622R. A300 F4-605R and F4-622R. A300 C4-605R Variant F.
A310-27-2089, Revision 02, dated June 28, 2001. | A310-27-2089, Revision 01, dated August 25, 2000 | A310-203, -204, -221, and -222. A310-304, -322, -324, and -325.

Inspection

(g) At the applicable time specified in paragraph (g)(1) or (g)(2) of this AD, do a detailed inspection of specified components of the THSA in accordance with paragraph 1.E.(2)(a) and the Accomplishment Instructions of the applicable service bulletin. Repair any discrepancy before further flight in accordance with a method approved by the Manager, International Branch, ANM-116, Transport Airplane Directorate, FAA; or the Direction Générale de l'Aviation Civile (DGAC) (or its delegated agent). TRW Aeronautical Systems/Lucas Aerospace Component Maintenance Manual 27-44-13, dated September 14, 2001, is one acceptable method for the repair.

(1) If the flight hours accumulated on the THSA can be positively determined: Inspect at the earlier of:

(i) Before the accumulation of 47,000 total flight hours on the THSA, or within 600 flight hours after the effective date of this AD, whichever occurs later.

(ii) Within 25 years since the THSA was new or within 600 flight hours after the effective date of this AD, whichever occurs later.

(2) If the flight hours accumulated on the THSA cannot be positively determined: Inspect before the accumulation of 47,000 total flight hours on the airplane, or within 600 flight hours after the effective date of this AD, whichever occurs later.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Follow-on Repetitive Tasks

(h) After the inspection required by paragraph (g) of this AD: Do the repetitive tasks in accordance with the Accomplishment Instructions and at the times specified in paragraph 1.E.(2)(b) of the service bulletin, as applicable, except as provided by paragraph (i) of this AD. The repetitive tasks are valid only until the THSA operational life exceeds 65,000 flight hours, 40,000 flight cycles, or 25 years, whichever occurs first. Before the THSA is operated beyond these extended life goals, it must be replaced with a new THSA, except as required by paragraph (i) of this AD.

THSA Replacement

(i) For any THSA, whether discrepant or not, that is replaced with a new THSA: Within 47,000 flight hours or 25 years, whichever occurs first, after the THSA is replaced, do the applicable tasks specified in paragraph 1.E.(2)(a) and the Accomplishment Instructions of the applicable service bulletin. Thereafter repeat the tasks within the repetitive intervals specified in paragraph 1.E.(2)(b) of the applicable service bulletin.

Alternative Methods of Compliance (AMOCs)

(j)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) French airworthiness directive 2001-242(B), dated June 27, 2001, also addresses the subject of this AD.

Issued in Renton, Washington, on May 8, 2006.
Ali Bahrami,
Manager, Transport Airplane Directorate, Aircraft Certification Service.

[FR Doc. E6-7558 Filed 5-17-06; 8:45 am]

BILLING CODE 4910-13-P